Proclamation 9096 of March 31, 2014

National Financial Capability Month, 2014

By the President of the United States of America

A Proclamation

Thanks to the grit and determination of the American people, our Nation has cleared away the rubble of the worst recession since the Great Depression. As we continue to create jobs and grow our economy, families strive to rebuild their finances and shore up their futures. During National Financial Capability Month, we renew our drive to give all Americans the tools to navigate the financial world and gain the economic freedom to pursue their own measure of happiness.

In today's economy, financial capability is essential for some of life's biggest transitions—paying for college, buying a home, saving for retirement. A solid understanding of the marketplace makes it easier to avoid scams, spot misleading information, and decipher complex paperwork. For free resources on managing money and making the best decisions for you, visit www.MyMoney.gov and www.ConsumerFinance.gov, or call 1-888-MyMoney.

My Administration is working alongside businesses, schools, and community leaders to empower Americans with financial information. We launched the “Know Before You Owe” campaign to make student loans more transparent and created myRA, an affordable savings bond that encourages Americans to begin building nest eggs and allows them to carry their account between jobs. And we continue to take action against companies that charge hidden fees or deceive consumers with barely understandable fine print.

We must also ensure that Americans have the means to put their financial understanding to use. Thanks to the Affordable Care Act, millions can finally live secure in the knowledge that they are no longer an illness or injury away from bankruptcy. Yet for those who work full-time, make minimum wage, and still live in poverty, budgets do not stretch far enough to leave room for investments. This month, as we improve financial capability throughout our Nation, let us also advance the opportunity agenda—new jobs in tomorrow's industries, more access to job training, a world-class education for every child, and an economy where hard work pays off for every American.

NOW, THEREFORE, I, BARACK OBAMA, President of the United States of America, by virtue of the authority vested in me by the Constitution and the laws of the United States, do hereby proclaim April 2014 as National Financial Capability Month. I call upon all Americans to observe this month with programs and activities to improve their understanding of financial principles and practices.

IN WITNESS WHEREOF, I have hereunto set my hand this thirty-first day of March, in the year of our Lord two thousand fourteen, and of the Independence of the United States of America the two hundred and thirty-eighth.

[FR Doc. 2014-07781

Filed 4-3-14; 11:15 am]

Billing code 3295-F4